DEPARTMENT OF ENERGY

Federal Energy Regulatory Commission

Notice of Effectiveness of Exempt Wholesale Generator Status

| Docket Nos.
Nobles 2 Power Partners, LLC | EG20-224-000
Hardin Solar Holdings LLC | EG20-225-000
Northern Divide Wind, LLC | EG20-226-000
Mechanicsville Lessee, LLC | EG20-227-000
AB Lessee, LLC | EG20-228-000
Neosho Ridge Wind, LLC | EG20-229-000
Moss Landing Energy Storage 1, LLC | EG20-230-000
Moss Landing Energy Storage 2, LLC | EG20-231-000
Crossing Trails Wind Power Project LLC | EG20-232-000
Headwaters Wind Farm II LLC | EG20-233-000
Jordan Creek Wind Farm LLC | EG20-234-000
Crescent Wind LLC | EG20-235-000
Contrail Wind Project, LLC | EG20-236-000
Riverstart Solar Park LLC | EG20-237-000
Alta Oak Realty, LLC | EG20-238-000
Greensville County Solar Project, LLC | EG20-239-000

Take notice that during the month of October 2020, the status of the above-captioned entities as Exempt Wholesale Generators Companies became effective by operation of the Commission's regulations. 18 CFR 366.7(a) (2020).

Dated: November 16, 2020.
Nathaniel J. Davis, Sr.,
Deputy Secretary.

[FR Doc. 2020-25675 Filed 11-19-20; 8:45 am]

BILLING CODE 6717-01-P